DEPARTMENT OF THE TREASURY

Submission for OMB Review; Comment Request

October 16, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 20, 2008 to be assured of consideration.

Internal Revenue Service (IRS)

OMB Number: 1545-1028.

Type of Review: Extension.

Title: INTL-941-86 (NPRM) and INTL-655-87 (Temporary) Passive Foreign Investment Companies.

Description: These regulations specify how U.S. persons who are shareholders of passive foreign investment companies (PFICs) make elections with respect to their PFIC stock.

Respondents: Not-for-profit institutions.

Estimated Total Burden Hours: 112,500 hours. Clearance Officer: Glenn P. Kirkland, (202) 622-3428, Internal Revenue Service, Room 6516, 1111 Constitution Avenue, NW., Washington, DC 20224.

OMB Reviewer: Kimberly Nelson, (202) 395-3787, Office of Management and Budget, Room 10235, New Executive Office Building, Washington, DC 20503.

Celina Elphage,
Treasury PRA Clearance Officer.

[FR Doc. E8-25007 Filed 10-20-08; 8:45 am]

BILLING CODE 4830-01-P